FEDERAL COMMUNICATIONS COMMISSION

47 CFR Chapter I

[PR Docket No. 93-144; FCC 00-95]

Rules to Facilitate Future Development of SMR Systems in the 800 MHz Frequency Band

AGENCY: Federal Communications Commission.

ACTION: Request for comments.

SUMMARY: In this document, the Commission requests comment on the construction requirements that the Commission should impose on 800 MHz Specialized Mobile Radio (SMR) commercial licensees that are part of a wide area system (“wide-area licensees”) operating on non-SMR channels (e.g., Business and Industrial /Land Transportation (BI/LT) channels) through inter-category sharing. Comment is sought based on the Commission's decision in its Memorandum Opinion and Order on Remand (Remand Order) responding to the decision of the U.S. Court of Appeals for the District of Columbia Circuit (Court) in Fresno Mobile Radio, Inc. v. FCC (Fresno). The Commission has decided to determine the construction status of BI/LT frequencies authorized for SMR use through inter-category sharing by separate order in the Fresno Remand proceeding. Interested parties may file comments on or before March 27, 2000. Parties interested in submitting reply comments must do so on or before April 6, 2000.

DATES: Comments due March 27, 2000 and Reply Comments due April 6, 2000.

FOR FURTHER INFORMATION CONTACT: Don Johnson, Wireless Telecommunications Bureau, at (202) 418-7240.

SUPPLEMENTARY INFORMATION: This Public Notice in PR Docket No. 93-144, adopted and released March 10, 2000 is available for inspection and copying during normal business hours in the FCC Reference Center, 445 Twelfth Street, SW, Washington, DC. The complete text may be purchased from the Commission's copy contractor, International Transcription Service, Inc., 1231 20th Street, NW, Washington, DC 20036 (202) 857-3800. The document is also available via the internet at http://www.fcc.gov/Bureaus/Wireless/Public Notice/1999/index2.html.

Synopsis of Public Notice

The Commission requests comment on the construction requirements that the Commission should impose on 800 MHz Specialized Mobile Radio (SMR) commercial licensees that are part of a wide area system (“wide-area licensees”) operating on non-SMR channels (e.g., Business and Industrial /Land Transportation (BI/LT) channels) through inter-category sharing. In the Remand Order, the Commission stated that it would allow incumbent wide-area 800 MHz SMR licensees, who were within their construction periods at the time of the Fresno decision, to elect to satisfy either: (1) Construction requirements similar to those given to Economic Area (EA) licensees in the 800 MHz band; or (2) the original construction requirements outlined in the 800 MHz Rejustification Order. The Remand Order stated that the construction status of BI/LT frequencies authorized for SMR use through inter-category sharing was beyond the scope of the proceeding and would be considered in the context of the Commission's rulemaking proceeding to implement the Balanced Budget Act of 1997 (BBA proceeding).

The Commission has decided to determine the construction status of BI/LT frequencies authorized for SMR use through inter-category sharing by separate order in the Fresno Remand proceeding rather than in the BBA proceeding. Therefore, we seek comment on whether the Commission should adopt construction rules for these incumbent wide-area licensees operating on BI/LT frequencies similar to those adopted in the Remand Order for wide-area licensees operating on SMR frequencies. The Commission also requests further comment on the applicable construction requirements (e.g., substantial service or population-based) for wide-area SMR licensees that operate on BI/LT frequencies through inter-category sharing. This request is limited to comments on the construction status of BI/LT frequencies authorized for SMR use through inter-category sharing. We do not seek comment on any issues relating to construction requirements for Private Mobile Radio Service (PMRS) licensees.

The Commission notes that, regardless of its decision in this matter, we intend to allow the affected SMR licensees on BI/LT channels six months after the adoption of a final order in this proceeding to complete buildout, unless a longer period is specified in that order. We note that the Bureau has already granted extensions to the Southern Company and to Nextel Communications, Inc., of the extended implementation period for construction of their Business and Industrial/Land Transportation channels, until final rules regarding licensing of the BI/LT frequencies in the context of the Commission's rulemaking proceeding to implement the Balanced Budget Act of 1997 take effect. By this Public Notice, the Commission modifies the term of each of these two waivers to expire six months after the adoption of a final order in the instant proceeding.

Interested parties may file comments on or before March 27, 2000. Parties interested in submitting reply comments must do so on or before April 6, 2000. All comments should reference PR Docket No. 93-144 and should be filed with the Office of the Secretary, Federal Communications Commission, 445 Twelfth Street, SW, Room TW-B204, Washington, DC 20554. A copy of each filing should be sent to International Transcription Services, Inc. (ITS), 1231 20th Street, NW, Washington, DC 20036. In addition, parties should send two copies each to:

(1) Don Johnson, Federal Communications Commission, Wireless Telecommunications Bureau, Commercial Wireless Division, Policy and Rules Branch, 445 Twelfth Street, SW, Room 4A-332, Washington, DC 20554; and

(2) Jennifer Mock, Federal Communications Commission, Wireless Telecommunications Bureau, Public Safety and Private Wireless Division, Policy and Rules Branch, 445 Twelfth Street, SW, Room 3-C400, Washington, DC 20554.

Copies of the comments and reply comments will be available for inspection and duplication during regular business hours in the Public Reference Room, 445 Twelfth Street, SW, Room CY-8257, Washington, DC 20554. Copies also may be obtained from ITS, 1231 20th Street, NW, Washington, DC 20036; (202) 857-3800.

Federal Communications Commission.
Magalie Roman Salas,
Secretary.

[FR Doc. 00-7164 Filed 3-22-00; 8:45 am]

BILLING CODE 6712-01-P